DEPARTMENT OF TRANSPORTATION

Federal Aviation Administration

14 CFR Part 39

[Docket No. FAA-2020-0390; Product Identifier 2018-SW-096-AD; Amendment 39-19901; AD 2020-07-22]

RIN 2120-AA64

Airworthiness Directives; PZL Swidnik S.A. Helicopters

AGENCY: Federal Aviation Administration (FAA), DOT.

ACTION: Final rule; request for comments.

SUMMARY: The FAA is adopting a new airworthiness directive (AD) for PZL Swidnik S.A. (PZL) Model PZL W-3A helicopters. This AD requires inspecting the main gearbox (MGB) bolts and washers to determine if they are properly locked and, depending on the inspection outcome, removing the engine, removing certain bolts from service, and performing more in-depth inspections; and depending on the outcome of those inspections, replacing the graphite seal assembly or removing it from service. Finally, this AD prohibits installing any affected MGB on a helicopter unless it has met the requirements of this AD. This AD was prompted by reports that the bolts securing the input quill and graphite seal assembly of the MGB were not properly locked. The actions of this AD are intended to address an unsafe condition on these products.

DATES: This AD becomes effective May 5, 2020.

The Director of the Federal Register approved the incorporation by reference of a certain document listed in this AD as of May 5, 2020.

The FAA must receive comments on this AD by June 19, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0390; or in person at Docket Operations between 9 a.m. and 5 p.m., Monday through Friday, except Federal holidays. The AD docket contains this AD, the European Union Aviation Safety Agency (previously European Aviation Safety Agency) (EASA) AD, any incorporated by reference service information, any comments received, and other information. The street address for Docket Operations is listed above.

For service information identified in this final rule, contact WSK “PZL- Świdnik” S.A., Al. Lotników Polskich 1, 21-045 Świdnik, Poland, telephone +48 664 424 798, or at www.pzl.swidnik.pl. You may review the referenced service information at the FAA, Office of the Regional Counsel, Southwest Region, 10101 Hillwood Pkwy, Room 6N-321, Fort Worth, TX 76177. It is also available on the internet at https://www.regulations.gov by searching for and locating Docket No. FAA-2020-0390.

FOR FURTHER INFORMATION CONTACT: Rao Edupuganti, Aviation Safety Engineer, Regulations and Policy Section, Rotorcraft Standards Branch, FAA, 10101 Hillwood Pkwy., Fort Worth, TX 76177; telephone 817-222-5110; email rao.edupuganti@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The FAA also invites comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. The FAA will file in the docket all comments received, as well as a report summarizing each substantive public contact with FAA personnel concerning this rulemaking during the comment period. The FAA will consider all the comments received and may conduct additional rulemaking based on those comments.

Discussion

EASA, which is the Technical Agent for the Member States of the European Union, has issued EASA AD No. 2018-0238, dated November 6, 2018 (EASA AD 2018-0238), to correct an unsafe condition for Wytwórnia Sprzętu Komunikacyjnego “PZL-Świdnik” Spółka Akcyjna (WSK “PZL-ŚWIDNIK” S.A.) Model PZL W-3A and PZL W-3AS helicopters.

EASA advises of occurrences of improperly locked bolts, which secure the input quill cover and graphite seal assembly of the WR-3 MGB. The bolts are locked in place through the use of locking tabs on the washer part number (P/N) 89.06.0387. According to EASA, a subsequent investigation determined that the root cause of this event was improper assembly of the MGB during manufacturing or overhaul. EASA stated this condition could lead to disconnection of the engines to the MGB mechanical link, possibly resulting in loss of helicopter control.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of the same type design.

Related Service Information Under 1 CFR Part 51

WYTWÓRNIA SPRZĘTU KOMUNIKACYJNEGO “PZL-Świdnik” Spólka Akcyjna has issued Mandatory Bulletin No. BO-37-18-289, dated October 23, 2018, which specifies using a fiberscope to inspect for improperly locked bolts that secure the input quill cover and graphite seal assembly of WR-3 MGBs. This service information also specifies reporting certain information to PZL and Pratt & Whitney Rzeszów S.A., removing the engine for more in-depth inspection of the bolts for signs of rubbing and deformation, inspecting the bolts for proper torque, removing the input drive quill seals, and inspecting the graphite seal assembly.

This service information is reasonably available because the interested parties have access to it through their normal course of business or by the means identified in the ADDRESSES section.

AD Requirements

This AD requires, within 25 hours time-in-service, for all PZL Model PZL W-3A helicopters that have a WR-3 MGB serial number up to and including 316463007M installed, inspecting each bolt P/N 89.00.0049 for proper locking using a fiberscope. Depending on the inspection outcome, this AD requires removing the engine and inspecting each bolt head for signs of rubbing and deformation, inspecting each bolt for proper torque, removing the left-hand and right-hand input drive quill seals, and inspecting each graphite seal assembly. This AD requires removing from service any bolt with signs of rubbing or deformation on its bolt head. If necessary, this AD requires replacing the graphite seal assembly or removing it from service. This AD also prohibits installing affected MGBs that have not been inspected for improperly locked bolts.

Differences Between This AD and the EASA AD

The EASA AD applies to Model PZL W-3AS helicopters, whereas this AD does not because that model is not FAA type-certificated. The EASA AD requires reporting certain information to PZL and Pratt & Whitney Rzeszów S.A., whereas this AD does not.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

There are no costs of compliance with this AD because there are no helicopters of this type certificate on the U.S. Registry.

FAA's Justification and Determination of the Effective Date

Section 553(b)(3)(B) of the Administrative Procedure Act (5 U.S.C.) authorizes agencies to dispense with notice and comment procedures for rules when the agency, for “good cause,” finds that those procedures are “impracticable, unnecessary, or contrary to the public interest.” Under this section, an agency, upon finding good cause, may issue a final rule without seeking comment prior to the rulemaking.

There are no helicopters with this type certificate on the U.S. Registry. Therefore, notice and opportunity for prior public comment are unnecessary pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-07-22 PZL Swidnik S.A.: Amendment 39-19901; Docket No. FAA-2020-0390; Product Identifier 2018-SW-096-AD.

(a) Applicability

This AD applies to PZL Swidnik S.A. (PZL) Model PZL W-3A helicopters, certificated in any category, with a WR-3 main gearbox (MGB) with a serial number (S/N) up to 316463007M inclusive and with a bolt part number (P/N) 89.00.0049 and washer P/N 89.06.0387, installed.

(b) Unsafe Condition

This AD defines the unsafe condition as improper locking of the bolts which secure the input quill cover and graphite seal assembly of the WR-3 MGB. This condition could result in disconnection of an engine to the MGB mechanical link and subsequent loss of control of the helicopter.

(c) Effective Date

This AD becomes effective May 5, 2020.

(d) Compliance

You are responsible for performing each action required by this AD within the specified compliance time unless it has already been accomplished prior to that time.

(e) Required Actions

(1) Within 25 hours time-in-service (TIS), inspect each bolt to determine if it is properly locked with the washer by following Chapter II, Inspection Procedure, paragraphs 3.1.a) and 3.1.b) of WYTWÓRNIA SPRZĘTU KOMUNIKACYJNEGO “PZL-Świdnik” Spólka Akcyjna Mandatory Bulletin No. BO-37-18-289, dated October 23, 2018 (MB BO-37-18-289). If any bolt is not properly locked, before further flight:

(i) Remove the engine to visually inspect the bolt head for any sign of rubbing and deformation.

(ii) If there is no sign of rubbing or deformation, loosen the bolt and tighten to the correct torque value of 2.5-3.0 Nm. Lock the bolt by folding tabs of the washer up to the side surfaces of the bolt head. Photo 4 of MB BO-37-18-289 shows an example of a properly locked bolt.

(iii) If there is any sign of rubbing or deformation;

(A) Remove from service the bolt.

(B) Remove the left-hand (LH) and right-hand (RH) input drive quill seals by following paragraphs 1.1. through 1.6., Procedure—Case B. Attachment 1 to MB BO-37-18-289.

(C) Visually inspect each graphite seal assembly of the LH and RH input drive quill seals for any crack, damage, and surface deformation in the surface area identified as “D” of Sketch 3. Radial Seal, Attachment 1 to MB BO-37-18-289, and any crack, damage, surface deformation, cracked graphite segments and seizing of grooves in the surface area identified as “E” of Sketch 3. Radial Seal, Attachment 1 to MB BO-37-18-289. For purposes of this inspection, damage to the graphite seal assembly may be indicated by spalling, chipping, scratches, or dents. Also visually inspect for unsmooth freedom of radial motion of each graphite ring in the surface area identified as “E” of Sketch 3. Radial Seal, Attachment 1 to MB BO-37-18-289, any scratch and dent in the surface areas identified as “A” and “B” of Sketch 3. Radial Seal, Attachment 1 to MB BO-37-18-289, and seizing on the surface area identified as “C” of Sketch 3. Radial Seal, Attachment 1 to MB BO-37-18-289.

(1) If there is any crack, damage, or surface deformation in surface area “E” greater than an area of 1.5 mm² or a depth of 1mm, before further flight, remove from service the graphite seal assembly.

(2) If there is any spalling or chipping in surface area “E” that is equal to or less than an area of 1.5 mm² and a depth of 1 mm, or any scratch or dent in surface areas “A” or “B” or seizing in surface area “C” that is acceptable after blending material flashes, before further flight, replace the graphite seal assembly.

(3) If there is any crack, damage, or surface deformation on surface “D”, cracked graphite segments or seizing of grooves on surface “E”, any scratch or dent in surface areas “A” or “B” or seizing in surface area “C” that is not acceptable after blending material flashes, or radial motion of graphite rings is difficult and not smooth, before further flight, remove from service the graphite seal assembly.

(2) After the effective date of this AD, do not install a WR-3 MGB with an S/N up to 316463007M inclusive and with a bolt P/N 89.00.0049 and washer P/N 89.06.0387 on any PZL Model PZL W-3A helicopter, unless it has been inspected in accordance with the requirements of this AD.

(f) Alternative Methods of Compliance (AMOCs)

(1) The Manager, Safety Management Section, Rotorcraft Standards Branch, FAA, may approve AMOCs for this AD. Send your proposal to: Rao Edupuganti, Aviation Safety Engineer, Regulations and Policy Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

The subject of this AD is addressed in European Union Aviation Safety Agency (previously European Aviation Safety Agency) (EASA) AD No. 2018-0238, dated November 6, 2018. You may view the EASA AD on the internet at https://www.regulations.gov in Docket No. FAA-2020-0390.

(h) Subject

Joint Aircraft Service Component (JASC) Code: 6320, Main Rotor Gearbox.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) WYTWÓRNIA SPRZĘTU KOMUNIKACYJNEGO “PZL-Świdnik” Spólka Akcyjna Mandatory Bulletin No. BO-37-18-289, dated October 23, 2018.

(ii) [Reserved]

(3) For service information identified in this AD, contact PZL-Świdnik S.A., A1. Lotników Polskich 1, 21-045 Świdnik, Poland; telephone +48 81 468 09 01, 751 20 71; fax +48 81 468 09 19, 751 21 73; or at www.pzl.swidnik.pl.

(4) You may view this service information at FAA, Office of the Regional Counsel, Southwest Region, 10101 Hillwood Pkwy, Room 6N-321, Fort Worth, TX 76177. For information on the availability of this material at the FAA, call 817222-5110.

(5) You may view this service information that is incorporated by reference at the National Archives and Records Administration (NARA). For information on the availability of this material at NARA, email fedreg.legal@nara.gov, or go to: https://www.archives.gov/federal-register/cfr/ibr-locations.html.

Issued on April 15, 2020.
Lance T. Gant,
Director, Compliance & Airworthiness Division, Aircraft Certification Service.

[FR Doc. 2020-08297 Filed 4-17-20; 8:45 am]

BILLING CODE 4910-13-P